DEPARTMENT OF EDUCATION

President's Advisory Commission on Educational Excellence for Hispanic Americans

AGENCY: President's Advisory Commission on Educational Excellence for Hispanic Americans, Department of Education.

ACTION: Notice of teleconference meeting.

SUMMARY: This notice sets forth the schedule and proposed agenda of a forthcoming teleconference meeting of the President's Advisory Commission on Educational Excellence for Hispanic Americans (Commission). The main agenda item for this teleconference is to approve the Commission's final report to the President. This notice also describes the functions of the Commission. Notice of this meeting is required under section 10(a)(2) of the Federal Advisory Committee Act and is intended to notify the public of their opportunity to attend.

Date and Time: Monday, February 24, 2003, the hour to be determined.

Purpose: For approval of the Commission's final report to the President.

ADDRESSES: The Commission will hold a teleconference meeting in Washington, DC, on Monday, February 24, 2003. A room will be made available to the public to listen to the Commission's discussion. The specific location has not been determined at this time, but it is anticipated that space will be limited. You are encouraged to contact the White House Initiative on Educational Excellence for Hispanic Americans staff no later than Friday, February 21, 2003, if you wish to attend.

FOR FURTHER INFORMATION CONTACT: Leslie Sanchez, Executive Director, or Adam Chavarria, Associate Director, White House Initiative on Educational Excellence for Hispanic Americans, 400 Maryland Avenue, SW., Washington, DC 20202, (202) 401-1411.

SUPPLEMENTARY INFORMATION: The President's Advisory Commission on Educational Excellence for Hispanic Americans is established under Executive Order 13230, dated October 12, 2001. The Commission is established to provide advice to the Secretary of Education (Secretary) and issue reports to the President concerning: (a) The progress of Hispanic Americans in closing the academic achievement gap and attaining the goals established by the No Child Left Behind Act of 2002; (b) the development, monitoring, and coordination of Federal efforts to promote high-quality education for Hispanic Americans; (c) ways to increase parental, State and local, private sector, and community involvement in improving education; and (d) ways to maximize the effectiveness of Federal education initiatives within the Hispanic community.

Individuals who will need accommodations for a disability (e.g., interpreting services, assistive listening devices, materials in alternative format) should notify Adam Chavarria at (202) 401-1411 by no later than February 14, 2003. We will attempt to meet requests after this date but cannot guarantee availability of the requested accommodation. The site will be accessible to individuals with disabilities.

Records are kept of all Commission proceedings and are available for public inspection at the office of the White House Initiative on Educational Excellence for Hispanic Americans from the hours of 9 a.m. to 5 p.m.

Dated: February 6, 2003.
William D. Hansen,
Deputy Secretary, Department of Education.

[FR Doc. 03-3648 Filed 2-13-03; 8:45 am]

BILLING CODE 4000-01-M